OCCUPATIONAL SAFETY AND HEALTH REVIEW COMMISSION

Senior Executive Service Performance Review Board Membership

AGENCY: Occupational Safety and Health Review Commission.

ACTION: Annual notice.

SUMMARY: Notice is given under 5 U.S.C. 4314(c)(4) of the appointment of members to the Performance Review Board (PRB) of the Occupational Safety and Health Review Commission.

DATES: Membership is effective on January 25, 2013.

FOR FURTHER INFORMATION CONTACT: Linda M. Beard, Human Resources Specialist, U.S. Occupational Safety and Health Review Commission, 1120 20th Street NW., Washington, DC 20036, (202) 606-5393.

SUPPLEMENTARY INFORMATION: The Review Commission, as required by 5 U.S.C. 4314(c)(1) through (5), has established a Senior Executive Service PRB. The PRB reviews and evaluates the initial appraisal of a senior executive's performance by the supervisor, and makes recommendations to the Chairman of the Review Commission regarding performance ratings, performance awards, and pay-for-performance adjustments. Members of the PRB serve for a period of 24 months. In the case of an appraisal of a career appointee, more than half of the members shall consist of career appointees, pursuant to 5 U.S.C. 4314(c)(5). The names and titles of the PRB members are as follows:

• Nicholas M. Inzeo, Director, Office of Field Programs, U.S. Equal Employment Opportunity Commission;

• Jeffrey Risinger, Human Resources Director, Federal Housing Finance Agency; and

• Joel R. Schapira, Deputy General Counsel, Defense Nuclear Facilities Safety Board.

Dated: January 16, 2013.
Thomasina V. Rogers,
Chairman.

[FR Doc. 2013-01517 Filed 1-24-13; 8:45 am]

BILLING CODE 7600-01-P